COMMODITY FUTURES TRADING COMMISSION

Sunshine Act Meetings

FEDERAL REGISTER CITATION OF PREVIOUS ANNOUNCEMENT: 75 FR 57.

PREVIOUSLY ANNOUNCED TIME AND DATE OF THE MEETING: 11 a.m., Friday, March 19, 2010.

CHANGES IN THE MEETING: The incorrect date was previously published. A meeting to discuss Surveillance matters will be held at 11 a.m. on Friday April 16, 2010.

CONTACT PERSON FOR MORE INFORMATION: Sauntia S. Warfield, 202-418-5084.

Sauntia S. Warfield,
Assistant Secretary of the Commission.

[FR Doc. 2010-7100 Filed 3-25-10; 4:15 pm]

BILLING CODE 6351-01-P